Proclamation 10654 of October 13, 2023

National Forest Products Week, 2023

By the President of the United States of America

A Proclamation

For generations, America's forests have been a source of recreation and relaxation for millions of people; a sacred place for Tribal ceremonies and cultural practices; and a source of livelihood for foresters, loggers, mill workers, carpenters, Tribes, local communities, and others who rely on forest products and healthy forest ecosystems to support themselves, their families, and their communities. This National Forest Products Week, my Administration recommits to conserving our beautiful forests. When we responsibly steward the abundant renewable resources found in our Nation's forestlands, we not only protect the environment but also support a critical pillar of our economy that uplifts communities across America.

From lumber and paper to clean water and fresh air, we depend on our forests to protect our environment and fuel our economy. But our forests—and the jobs and livelihoods of those who work in them—are endangered by a range of risks, including the existential threat of climate change. Extreme heat, more intense droughts, and decades of poor forest management have turned wildfire season into wildfire years—destroying countless acres of forestland and spreading smoky haze across our country.

From day one, my Administration has been committed to maintaining the health, diversity, and productivity of our forests. In my first week as President, I signed an Executive Order establishing the “America the Beautiful” Initiative—our country's first-ever national conservation goal—committing to conserve at least 30 percent of all our Nation's lands and waters by 2030 through voluntary, locally-led efforts across the country. Keeping foresters and farmers working across our country in a sustainable manner is central to this initiative.

We are building on these successes with my Investing in America Agenda. Through the Bipartisan Infrastructure Law, we are making our forests and our communities more resilient by removing overgrown vegetation from land near homes and power lines, improving evacuation routes in areas susceptible to wildfires, and finding and removing invasive species that can cause fires to spread more easily. With historic funding from the Inflation Reduction Act—the largest climate investment in the history of the world—for tree planting, sustainable forest management, and fire prevention, we are reducing the effects of climate change on our forests. I am proud to have increased the Federal firefighter minimum wage to $15 an hour—a critical first step in giving these heroes the pay, respect, and dignity they deserve.

My Administration is also working to create more opportunities for producers of American forest products. With a combination of funding from the Bipartisan Infrastructure Law and the Inflation Reduction Act, my Administration is supporting American businesses that advance forest conservation and create jobs—awarding millions of dollars through the Wood Innovations, Community Wood, and Wood Products Infrastructure Assistance grant programs. These initiatives are expanding the sustainable and innovative use of American wood products and wood waste materials to produce renewable energy, strengthening emerging wood markets, and supporting sustainable forest management.

Our Nation's majestic forests are at the heart of who we are as Americans, connecting us to something bigger than ourselves. Conserving them not only sustains a vital part of our country's economy but also preserves a key part of the American story for future generations. During National Forest Products Week, my Administration recommits to safeguarding and stewarding our precious forests so that we, our children, and our grandchildren can enjoy them for many years to come.

To recognize the importance of the many products generated by our Nation's forests, the Congress, by Public Law 86-753 (36 U.S.C. 123), as amended, has designated the week beginning on the third Sunday in October of each year as “National Forest Products Week” and has authorized and requested the President to issue a proclamation in observance of this week.

NOW, THEREFORE, I, JOSEPH R. BIDEN JR., President of the United States of America, by virtue of the authority vested in me by the Constitution and the laws of the United States, do hereby proclaim October 15 through October 21, 2023, as National Forest Products Week. I call upon the people of the United States to join me in this observance and in recognizing all Americans who are responsible for the stewardship of our Nation's beautiful forested landscapes.

IN WITNESS WHEREOF, I have hereunto set my hand this thirteenth day of October, in the year of our Lord two thousand twenty-three, and of the Independence of the United States of America the two hundred and forty-eighth.

[FR Doc. 2023-23098

Filed 10-17-23; 8:45 am]

Billing code 3395-F4-P